DEPARTMENT OF HEALTH AND HUMAN SERVICES

Centers for Disease Control and Prevention

[30Day-20-19ACI]

Agency Forms Undergoing Paperwork Reduction Act Review

In accordance with the Paperwork Reduction Act of 1995, the Centers for Disease Control and Prevention (CDC) has submitted the information collection request titled Sealant Efficiency Assessment for Locals and States (SEALS) to the Office of Management and Budget (OMB) for review and approval. CDC previously published a “Proposed Data Collection Submitted for Public Comment and Recommendations” notice on April 8, 2019 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Sealant Efficiency Assessment for Locals and States (SEALS)—Existing Collection in use without an OMB Control Number—National Center for Chronic Disease Prevention and Health Promotion (NCCDPHP), Centers for Disease Control and Prevention (CDC).

Background and Brief Description

By age 19, 67% of U.S. adolescents living in poverty have experienced tooth decay and 27% have at least one decayed tooth needing treatment. School sealant programs (SSP) provide dental sealants, which protect against 80% of cavities for two years, and continue to protect against 50% of cavities for up to four years.

Little is known about school sealant program delivery logistics, resource costs, or the quantity of resources used per unit of service or per averted cavity. The previously mentioned economic model on the cost-effectiveness of SSPs could find no recent studies on SSP cost in the U.S. and relied on the findings from four studies, all published before 2001. A systematic review of economic evaluations of SSPs conducted further found wide variation in reported cost per child, ranging from $33 to $163. Information on the cost and efficiency of SSPs could help these programs become more efficient and provide more services per dollar in their budget.

CDC requests information from states regarding children's cavity risk, one-year sealant retention rate, sealant program services delivered, and school sealant program cost and quantity of resources used at each school event. This data will allow CDC and states to monitor the performance and efficiency of their SSPs, which will improve and extend program delivery to more children.

At the beginning of each school year, SSPs electronically enter a list of schools they plan to serve (Add Schools), information about their program delivery logistics (Program Options), and per unit resource costs (Cost Options). Data from the previous funding period suggest that one SSP typically serves 20 schools. At each school event, SSPs enter information about resource use, children's risk for tooth decay, and delivered services (Add Event). Information collected at each school can be entered electronically onsite, or collected on paper form and entered electronically at a later date. At the end of the school year, SSPs enter administrative costs (e.g., office supplies, rent, computers) electronically, and within nine to 15 months after first visiting the school, they enter information about sealant retention. Effectiveness of resin-based sealants is directly tied to retention, in that a retained sealant is 100% effective at preventing cavities. Because of this, many SSPs sample a few children for retention when they visit the school the next year to deliver services to new students.

CDC proposes to conduct a benchmarking analysis to identify the set of efficient SSPs and factors/practices associated with efficiency. Findings from the CDC benchmarking analyses will be submitted for publication in peer-reviewed journals and presented at the National Oral Health Conference. Findings will also be shared with the Association of State and Territorial Dental Directors (ASTDD), the oral health divisions in HRSA and CMS, and the National Institutes of Dental and Craniofacial Research. This information will inform entities considering implementing SSPs; assist local SSPs and state oral health departments to monitor efficiency and impact; identify best practices; and document if and how SSPs are a good investment of public health dollars.

CDC requests OMB clearance for three years. The total estimated annualized burden hours is 1,388. There are no costs to respondents other than their time.

Estimated Annualized Burden Hours
Type of respondents | Form name | Number of respondents | Number of responses per respondent | Average burden per response (in hours)
State Sealant Administrator | Add Program and Add User | 18 | 1 | 45/60
SSP Local Administrator | Add User and Add School | 162 | 1 | 43/60
| Program Options and Cost Options | 162 | 1 | 46/60
| Add Event | 162 | 20 | 21/60

Jeffrey M. Zirger,
Lead, Information Collection Review Office, Office of Scientific Integrity, Office of Science, Centers for Disease Control and Prevention.

[FR Doc. 2019-24727 Filed 11-13-19; 8:45 am]

BILLING CODE 4163-18-P